DEPARTMENT OF ENERGY

Federal Energy Regulatory Commission

[Project No. 2145-089]

Public Utility District No. 1 of Chelan County, Washington; Notice of Application for Approval of Contract for the Sale of Power for a Period Extending Beyond the Term of the License

July 18, 2008.

Take notice that on July 17, 2008, Public Utility District No. 1 of Chelan County, Washington (Chelan PUD) filed with the Commission an application for approval of a contract for the sale of power from its licensed Rocky Reach Project No. 2145 for a period from June 30, 2011, through October 31, 2028.¹ The Project is located on the Columbia River in Washington.

¹ The license for the Rocky Reach Project expired in 2006 and the project is operating under annual license.

Section 22 of the Federal Power Act, 16 U.S.C. 815, provides that contracts for the sale and delivery of power for periods extending beyond the termination date of a license may be entered into upon the joint approval of the Commission and the appropriate state public service commission or other similar authority in the state in which the sale or delivery of power is made. Chelan PUD asserts that approval of the submitted contract is in the public interest.

Comments on the request for approval of the power sales contract or motions to intervene may be filed with the Commission no later than August 18, 2008, and replies to comments no later than August 26, 2008. The Commission's Rules of Practice require all intervenors filing documents with the Commission to serve a copy of that document on each person on the official service list for the project. Further, if an intervenor files comments or documents with the Commission relating to the merits of an issue that may affect the responsibilities of a particular resource agency, they must also serve a copy of the document on that resource agency.

All documents (an original and eight copies) must be filed with: Kimberly D. Bose, Secretary, Federal Energy Regulatory Commission, 888 First Street, NE., Washington, DC 20426. Please put the name Rocky Reach, Project No. 2145-089 on the first page of all documents.

Comments may be filed electronically via the Internet in lieu of paper. The Commission strongly encourages electronic filings. See 18 CFR 385.2001(a)(1)(iii) and the instructions on the Commission's Web site http://www.ferc.gov under the “e-Filing” link.

A copy of the application is available for review in the Commission's Public Reference Room or may be viewed on the Commission's Web site http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to these projects or other pending projects. For assistance, contact FERC Online Support.

Kimberly D. Bose,
Secretary.

[FR Doc. E8-17177 Filed 7-25-08; 8:45 am]

BILLING CODE 6717-01-P